DEPARTMENT OF COMMERCE

International Trade Administration

[A-588-838]

Clad Steel Plate From Japan: Continuation of Antidumping Duty Order

AGENCY: Import Administration, International Trade Administration, Department of Commerce.

SUMMARY: As a result of the determinations in the third sunset reviews by the Department of Commerce (Department) and the International Trade Commission (ITC) that revocation of the antidumping duty order on clad steel plate from Japan would likely lead to a continuation or recurrence of dumping and material injury to an industry in the United States, the Department is publishing a notice of continuation of the antidumping duty order.

DATES: Effective Date: February 11, 2013.

FOR FURTHER INFORMATION CONTACT: David Crespo, AD/CVD Operations, Office 2, Import Administration, International Trade Administration, U.S. Department of Commerce, 14th Street and Constitution Avenue NW., Washington, DC 20230; telephone: (202) 482-3693.

SUPPLEMENTARY INFORMATION:

Background

On February 1, 2012, the Department published the notice of initiation of the third sunset review of the antidumping duty order on clad steel plate from Japan pursuant to section 751(c) of the Tariff Act of 1930, as amended (Act). See Initiation of Five-Year (Sunset) Review, 77 FR 4995 (Feb. 1, 2012).

As a result of its review, the Department determined that revocation of the antidumping duty order on clad steel plate from Japan would likely lead to a continuation or recurrence of dumping and, therefore, notified the ITC of the magnitude of the margins of dumping likely to prevail should the order be revoked. See Clad Steel Plate from Japan: Final Results of the Expedited Third Sunset Review of the Antidumping Duty Order, 77 FR 31834 (May 30, 2012).

On February 1, 2013, the ITC published its determination, pursuant to section 751(c) of the Act, that revocation of the antidumping duty order on clad steel plate from Japan would likely lead to a continuation or recurrence of material injury to an industry in the United States within a reasonably foreseeable future. See Clad Steel Plate From Japan; Determination, 78 FR 7451 (Feb. 1, 2013).

Scope of the Order

The scope of the order is all clad¹ steel plate of a width of 600 millimeters (mm) or more and a composite thickness of 4.5 mm or more. Clad steel plate is a rectangular finished steel mill product consisting of a layer of cladding material (usually stainless steel or nickel) which is metallurgically bonded to a base or backing of ferrous metal (usually carbon or low alloy steel) where the latter predominates by weight.

¹ Cladding is the association of layers of metals of different colors or natures by molecular interpenetration of the surfaces in contact. This limited diffusion is characteristic of clad products and differentiates them from products metalized in other manners (e.g., by normal electroplating). The various cladding processes include pouring molten cladding metal onto the basic metal followed by rolling; simple hot-rolling of the cladding metal to ensure efficient welding to the basic metal; any other method of deposition of superimposing of the cladding metal followed by any mechanical or thermal process to ensure welding (e.g., electrocladding), in which the cladding metal (nickel, chromium, etc.) is applied to the basic metal by electroplating, molecular interpenetration of the surfaces in contact then being obtained by heat treatment at the appropriate temperature with subsequent cold rolling. See Harmonized Commodity Description and Coding System Explanatory Notes, Chapter 72, General Note (IV)(C)(2) (e).

Stainless clad steel plate is manufactured to American Society for Testing and Materials (ASTM) specifications A263 (400 series stainless types) and A264 (300 series stainless types). Nickel and nickel-base alloy clad steel plate is manufactured to ASTM specification A265. These specifications are illustrative but not necessarily all-inclusive.

Clad steel plate within the scope of the order is classifiable under the Harmonized Tariff Schedule of the United States (HTSUS) 7210.90.10.00. Although the HTSUS subheading is provided for convenience and customs purposes, our written description of the scope of the order is dispositive.

Continuation of the Order

As a result of the determinations by the Department and the ITC that revocation of the antidumping duty order would likely lead to a continuation or recurrence of dumping and material injury to an industry in the United States, pursuant to section 751(d)(2) of the Act, the Department hereby orders the continuation of the antidumping duty order on clad steel plate from Japan. U.S. Customs and Border Protection will continue to collect cash deposits for estimated antidumping duties at the rates in effect at the time of entry for all imports of subject merchandise.

The effective date of the continuation of the order will be the date of publication in the Federal Register of this notice of continuation. Pursuant to section 751(c)(2) of the Act, the Department intends to initiate the next five-year review of the order not later than 30 days prior to the fifth anniversary of the effective date of continuation.

This five-year (sunset) review and this notice are in accordance with section 751(c) of the Act and published pursuant to section 777(i)(1) of the Act.

Dated: February 5, 2013.
Paul Piquado,
Assistant Secretary for Import Administration.

[FR Doc. 2013-03079 Filed 2-8-13; 8:45 am]

BILLING CODE 3510-DS-P